DEPARTMENT OF HOMELAND SECURITY

National Communications System

[Docket No. DHS-2005-0071]

Notice of Partial Closure for the October 13, 2005, Meeting of the President's National Security Telecommunications Advisory Committee

AGENCY: National Communications System (NCS), DHS.

ACTION: Notice of partially closed meeting.

SUMMARY: The President's National Security Telecommunications Advisory Committee (NSTAC) will meet on Thursday, October 13, 2005, from 11 a.m. until 12 p.m. The meeting will take place via teleconference and will be partially closed to the public. For access to the conference bridge and meeting materials, interested members of the public should contact Ms. Elizabeth Hart at (703) 289-5948, or by e-mail at hart_elizabeth@bah.com by 5 p.m. on Tuesday, October 11, 2005.

The NSATC advises the President of the United States on issues and problems related to implementing national security and emergency preparedness (NS/EP) telecommunications policy. Between 11 a.m. and 11:30 a.m. the members will discuss activities of two NSTAC task forces including the results of the August 30, 2005, Incident Management Subject Matter Experts Meeting and Response to Hurricane Katrina. This portion of the meeting remains open to the public.

Basis for Closure

Subsequent to the July 7 terrorist attacks in London, Robert B. Stephan, Assistant Secretary for Infrastructure Protection, Department of Homeland Security (Department), briefed the NSTAC Principals during the July 27 NSTAC Conference Call on National Security and Emergency Preparedness concerns related to the shutdown of cellular services in the tunnels into and out of Manhattan. Since then the NCS and the NSTAC have both initiated efforts to examine these concerns from both an industry and Government perspective respectively. During the call, NCS and NSTAC will discuss their findings.

The discussion of the cellular services shutdown will occur between 11:30 a.m. and 12 p.m. and will involve sensitive information. Pursuant to Section 10(d) of the Federal Advisory Committee Act, Public Law 92-463, as amended (5 U.S.C. App. 1 et seq.), the Department has determined that this discussion will concern matters which, if disclosed, would be likely to frustrate significantly the implementation of a proposed agency action. Accordingly, the relevant portion of this meeting will be closed to the public pursuant to the authority set forth in 5 U.S.C. 552b(c)(9)(B).

FOR FURTHER INFORMATION CONTACT: Ms. Alberta Ross, Industry Operations Branch at (703) 235-5526, e-mail: Alberta.ross@dhs.gov or write the Deputy Manager, National Communications System, Department of Homeland Security, IAIP/NCS/N5, Washington, DC 20528, mail stop #8510.

SUPPLEMENTARY INFORMATION: Public Comments: You may submit comments for the public portion of this meeting, identified by DHS-2005-0071, by one of the following methods:

• EPA Federal Partner EDOCKET Web Site: http://www.epa.gov/feddocket. Follow instructions for submitting comments on the Web site.

• Federal eRulemaking Portal: http://www.regulations.gov. Follow the instructions for submitting comments.

• E-mail: NSTAC@dhs.gov. When submitting comments electronically, please include DHS-2005-0071 in the subject line of the message.

• Mail: Office of the Manager, National Communications System (N5), Department of Homeland Security, Washington, DC 20529. To ensure proper handling, please reference DHS-2005-0071 on your correspondence. This mailing address may also be used for paper, disk, or CD-ROM submissions.

All comments received will be posted without change to http://www.epa.gov/feddocket, including any personal information provided. For access to the docket, or to read background documents or comments received, go to http://www.epa.gov/feddocket. You may also access the Federal eRulemaking Portal at http://www.regulations.gov.

Dated: September 22, 2005.
Peter M. Fonash,
Deputy Manager, National Communications System.

[FR Doc. 05-19397 Filed 9-27-05; 8:45 am]

BILLING CODE 4410-10-P